DEPARTMENT OF STATE

[Public Notice 7394]

Culturally Significant Objects Imported for Exhibition Determinations: “The Steins Collect: Matisse, Picasso, and the Parisian Avant-Garde”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “The Steins Collect: Matisse, Picasso, and the Parisian Avant-Garde” imported from abroad for temporary exhibition within the United States, are of cultural significance. The objects are imported pursuant to loan agreements with the foreign owners or custodians. I also determine that the exhibition or display of all of these exhibit objects at the San Francisco Museum of Modern Art, San Francisco, CA, from on or about May 21, 2011, until on or about September 6, 2011, and the temporary display of six of the objects at The Metropolitan Museum of Art, New York, NY, from on or about February 21, 2012, until on or about June 3, 2012, is in the national interest. Also, the temporary display of the objects at possible additional exhibitions or venues yet to be determined is in the national interest. I have ordered that Public Notice of these Determinations be published in the Federal Register.

FOR FURTHER INFORMATION CONTACT: For further information, including a list of the exhibit objects, contact Julie Simpson, Attorney-Adviser, Office of the Legal Adviser, U.S. Department of State (telephone: 202-632-6467). The mailing address is U.S. Department of State, SA-5, L/PD, Fifth Floor (Suite 5H03), Washington, DC 20522-0505.

Dated: March 25, 2011.
Ann Stock,
Assistant Secretary, Bureau of Educational and Cultural Affairs, Department of State.

[FR Doc. 2011-7768 Filed 3-31-11; 8:45 am]

BILLING CODE 4710-05-P